DEPARTMENT OF ENERGY

Federal Energy Regulatory Commission

Combined Notice of Filings #1

Take notice that the Commission received the following electric corporate filings:

Docket Numbers: EC23-107-000.

Applicants: Horus West Virginia I, LLC.

Description: Application for Authorization Under Section 203 of the Federal Power Act of Horus West Virginia 1, LLC.

Filed Date: 7/12/23.

Accession Number: 20230712-5228.

Comment Date: 5 p.m. ET 8/2/23.

Take notice that the Commission received the following exempt wholesale generator filings:

Docket Numbers: EG23-230-000.

Applicants: Misenheimer Solar LLC.

Description: Misenheimer Solar LLC submits Notice of Self-Certification of Exempt Wholesale Generator Status.

Filed Date: 7/14/23.

Accession Number: 20230714-5221.

Comment Date: 5 p.m. ET 8/4/23.

Docket Numbers: EG23-231-000.

Applicants: Downeast Wind, LLC.

Description: Downeast Wind, LLC submits Notice of Self-Certification of Exempt Wholesale Generator Status.

Filed Date: 7/17/23.

Accession Number: 20230717-5080.

Comment Date: 5 p.m. ET 8/7/23.

Take notice that the Commission received the following electric rate filings:

Docket Numbers: ER10-2735-002.

Applicants: Anthracite Power and Light Company.

Description: Notice of Change in Status of Anthracite Power and Light Company.

Filed Date: 7/14/23.

Accession Number: 20230714-5186.

Comment Date: 5 p.m. ET 8/4/23.

Docket Numbers: ER11-2040-003.

Applicants: Schuylkill Energy Resources, Inc.

Description: Notice of Change in Status of Schuylkill Energy Resources, Inc.

Filed Date: 7/14/23.

Accession Number: 20230714-5173.

Comment Date: 5 p.m. ET 8/4/23.

Docket Numbers: ER12-726-009; ER18-2158-003; ER22-2703-002.

Applicants: Pattern Energy Management Services LLC, Stillwater Wind, LLC, Spring Valley Wind LLC.

Description: Triennial Market Power Analysis for Northwest Region of Spring Valley Wind LLC, et al.

Filed Date: 7/12/23.

Accession Number: 20230712-5225.

Comment Date: 5 p.m. ET 9/11/23.

Docket Numbers: ER15-1668-005.

Applicants: Phoenix Energy Group, LLC.

Description: Notice of Non-Material Change in Status of Phoenix Energy Group, LLC.

Filed Date: 7/14/23.

Accession Number: 20230714-5174.

Comment Date: 5 p.m. ET 8/4/23.

Docket Numbers: ER23-629-004.

Applicants: Public Service Company of Colorado.

Description: Compliance filing: 2023-07-14—Attach N Compliance Filing Amendments to be effective 6/3/2023.

Filed Date: 7/17/23.

Accession Number: 20230717-5000.

Comment Date: 5 p.m. ET 8/7/23.

Docket Numbers: ER23-2403-000.

Applicants: Victory Pass I, LLC.

Description: Baseline eTariff Filing: Market-Based Rate Application to be effective 9/15/2023.

Filed Date: 7/14/23.

Accession Number: 20230714-5155.

Comment Date: 5 p.m. ET 8/4/23.

Docket Numbers: ER23-2404-000.

Applicants: Bronco Plains Wind II, LLC.

Description: Baseline eTariff Filing: Bronco Plains Wind II, LLC Application for Market-Based Rate Authorization to be effective 9/13/2023.

Filed Date: 7/14/23.

Accession Number: 20230714-5158.

Comment Date: 5 p.m. ET 8/4/23.

Docket Numbers: ER23-2405-000.

Applicants: Southern California Edison Company.

Description: § 205(d) Rate Filing: LGIA, Bellefield 3 Solar Farm (TOT966-Q1779/SA No. 305) to be effective 7/15/2023.

Filed Date: 7/14/23.

Accession Number: 20230714-5161.

Comment Date: 5 p.m. ET 8/4/23.

Docket Numbers: ER23-2406-000.

Applicants: Arica Solar, LLC.

Description: Baseline eTariff Filing: Market-Based Rate Application to be effective 9/15/2023.

Filed Date: 7/14/23.

Accession Number: 20230714-5164.

Comment Date: 5 p.m. ET 8/4/23.

Docket Numbers: ER23-2407-000.

Applicants: Strauss Wind, LLC.

Description: Baseline eTariff Filing: Baseline new to be effective 7/15/2023.

Filed Date: 7/14/23.

Accession Number: 20230714-5176.

Comment Date: 5 p.m. ET 8/4/23.

Docket Numbers: ER23-2408-000.

Applicants: 2015 ESA Project Company, LLC.

Description: Tariff Amendment: 2015 ESA Project Company, LLC Notice of Cancellation to be effective 7/17/2023.

Filed Date: 7/14/23.

Accession Number: 20230714-5182.

Comment Date: 5 p.m. ET 8/4/23.

Docket Numbers: ER23-2410-000.

Applicants: PJM Interconnection, L.L.C.

Description: Tariff Amendment: Notice of Cancellation of WMPA, Service Agreement No. 5932; Queue No. AE2-028 to be effective 9/15/2023.

Filed Date: 7/17/23.

Accession Number: 20230717-5046.

Comment Date: 5 p.m. ET 8/7/23.

Docket Numbers: ER23-2411-000.

Applicants: PJM Interconnection, L.L.C.

Description: § 205(d) Rate Filing: Original IISA, SA No. 6993 and ICSA, SA No. 6994; Queue No. AF1-128 to be effective 6/16/2023.

Filed Date: 7/17/23.

Accession Number: 20230717-5057.

Comment Date: 5 p.m. ET 8/7/23.

Docket Numbers: ER23-2412-000.

Applicants: PJM Interconnection, L.L.C.

Description: § 205(d) Rate Filing: Original WMPA, Service Agreement No. 7007; Queue No. AF1-104 to be effective 9/15/2023.

Filed Date: 7/17/23.

Comment Date: 5 p.m. ET 8/7/23.

Docket Numbers: ER23-2413-000.

Applicants: Midcontinent Independent System Operator, Inc.

Description: § 205(d) Rate Filing: 2023-07-17_Attachment BB Compensation for Rescheduled Generator Outages to be effective 9/16/2023.

Filed Date: 7/17/23.

Accession Number: 20230717-5078.

Comment Date: 5 p.m. ET 8/7/23.

Docket Numbers: ER23-2414-000.

Applicants: PJM Interconnection, L.L.C.

Description: § 205(d) Rate Filing: Amendment to ISA, Service Agreement No. 6708; Queue No. AF1-075 to be effective 9/16/2023.

Filed Date: 7/17/23.

Accession Number: 20230717-5090.

Comment Date: 5 p.m. ET 8/7/23.

Docket Numbers: ER23-2415-000.

Applicants: PJM Interconnection, L.L.C.

Description: § 205(d) Rate Filing: Designated Entity Agreement, SA No. 7000 between PJM and MAIT to be effective 7/17/2023.

Filed Date: 7/17/23.

Accession Number: 20230717-5100.

Comment Date: 5 p.m. ET 8/7/23.

Docket Numbers: ER23-2416-000.

Applicants: PJM Interconnection, L.L.C.

Description: § 205(d) Rate Filing: Designated Entity Agreement, SA No. 7001 between PJM and MAIT to be effective 7/17/2023.

Filed Date: 7/17/23.

Accession Number: 20230717-5103.

Comment Date: 5 p.m. ET 8/7/23.

Docket Numbers: ER23-2417-000.

Applicants: PJM Interconnection, L.L.C.

Description: § 205(d) Rate Filing: Designated Entity Agreement, SA No. 6999 between PJM and ComEd to be effective 6/16/2023.

Filed Date: 7/17/23.

Accession Number: 20230717-5108.

Comment Date: 5 p.m. ET 8/7/23.

Docket Numbers: ER23-2418-000.

Applicants: Midcontinent Independent System Operator, Inc.

Description: § 205(d) Rate Filing: 2023-07-17_SA 4125 UE-Kelso 2 Solar GIA (J1299) to be effective 9/16/2023.

Filed Date: 7/17/23.

Accession Number: 20230717-5117.

Comment Date: 5 p.m. ET 8/7/23.

Take notice that the Commission received the following qualifying facility filings:

Docket Numbers: QF23-1111-000.

Applicants: 2015 ESA Project Company, LLC.

Description: Form 556 of 2015 ESA Project Company, LLC.

Filed Date: 7/17/23.

Accession Number: 20230717-5028.

Comment Date: 5 p.m. ET 8/7/23.

Docket Numbers: QF23-1112-000.

Applicants: 2015 ESA Project Company, LLC.

Description: Form 556 of 2015 ESA Project Company, LLC [USD Campus].

Filed Date: 7/17/23.

Accession Number: 20230717-5034.

Comment Date: 5 p.m. ET 8/7/23.

Docket Numbers: QF23-1113-000.

Applicants: 2015 ESA Project Company, LLC.

Description: Form 556 of 2015 ESA Project Company, LLC [Genentech B48 & B43].

Filed Date: 7/17/23.

Accession Number: 20230717-5039.

Comment Date: 5 p.m. ET 8/7/23.

Docket Numbers: QF23-1114-000.

Applicants: 2015 ESA Project Company, LLC.

Description: Form 556 of 2015 ESA Project Company, LLC [Kaiser—Downey MC—Upgrade].

Filed Date: 7/17/23.

Accession Number: 20230717-5041.

Comment Date: 5 p.m. ET 8/7/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 17, 2023.
Debbie-Anne A. Reese,
Deputy Secretary.

[FR Doc. 2023-15493 Filed 7-20-23; 8:45 am]

BILLING CODE 6717-01-P